DEPARTMENT OF TRANSPORTATION

Federal Railroad Administration

49 CFR Part 213

[Docket No. FRA-2009-0007, Notice No. 3]

RIN 2130-AC01

Track Safety Standards; Concrete Crossties

AGENCY: Federal Railroad Administration (FRA), Department of Transportation (DOT).

ACTION: Final rule; delay of effective date.

SUMMARY: This document delays the effectiveness of the final rule, which mandates specific requirements for effective concrete crossties, for rail fastening systems connected to concrete crossties, and for automated inspections of track constructed with concrete crossties. The Track Safety Standards were amended via final rule on April 1, 2011, and the final rule was scheduled to take effect on July 1, 2011. FRA received two petitions for reconsideration in response to the final rule that contain substantive issues requiring a detailed response. Accordingly, in order to fully respond to the petitions for reconsideration, this document delays the effective date of the final rule until October 1, 2011.

DATES: The effective date for the final rule published April 1, 2011, at 76 FR 18073, effective July 1, 2011, is delayed until October 1, 2011.

FOR FURTHER INFORMATION CONTACT: Kenneth Rusk, Staff Director, Office of Railroad Safety, FRA, 1200 New Jersey Avenue, SE., Washington, DC 20590 (telephone: (202) 493-6236); or Veronica Chittim, Trial Attorney, Office of Chief Counsel, FRA, 1200 New Jersey Avenue, SE., Washington, DC 20950 (telephone: (202) 493-0273).

SUPPLEMENTARY INFORMATION: On April 1, 2011, FRA published a final rule mandating specific requirements for effective concrete crossties, for rail fastening systems connected to concrete crossties, and for automated inspections of track constructed with concrete crossties. See 76 FR 18073. The effective date of this final rule was to be July 1, 2011. FRA received two petitions for reconsideration in response to the final rule that contain substantive issues requiring a detailed response from FRA. Accordingly, in order to allow FRA appropriate time to consider and fully respond to the petitions for reconsideration, this document delays the effective date of the final rule until October 1, 2011. Therefore, any requirements imposed by the final rule need not be complied with until October 1, 2011.

List of Subjects in 49 CFR Part 213

Penalties, Railroad safety, Reporting and recordkeeping requirements.

The Final Rule

In consideration of the foregoing, FRA delays the effective date of the final rule until October 1, 2011.

Issued in Washington, DC, on June 9, 2011.
Joseph C. Szabo,
Administrator.

[FR Doc. 2011-14835 Filed 6-10-11; 4:15 pm]

BILLING CODE 4910-06-P